DEPARTMENT OF DEFENSE

Office of the Secretary

Defense Business Board; Notice of Federal Advisory Committee Meeting

AGENCY: Chief Management Officer, Department of Defense.

ACTION: Notice of Federal Advisory Committee meeting.

SUMMARY: The Department of Defense (DoD) is publishing this notice to announce that the following Federal Advisory Committee meeting of the Defense Business Board (“the Board”) will take place.

DATES: Closed to the public Wednesday, November 6, 2019 from 8:00 a.m. to 10:00 a.m. Open to the public Wednesday, November 6, 2019 from 10:00 a.m. to 10:45 a.m. Closed to the public Wednesday, November 6, 2019 from 10:45 a.m. to 2:30 p.m.

ADDRESSES: The closed and open portions of the meeting will be in Room 3E869 in the Pentagon, Washington, DC.

FOR FURTHER INFORMATION CONTACT: Roma Laster, (703) 695-7563 (Voice), (703) 614-4365 (Facsimile), roma.k.laster.civ@mail.mil (Email). Mailing address is Defense Business Board, 1155 Defense Pentagon, Room 5B1088A, Washington, DC 20301-1155, website: http://dbb.defense.gov/. The most up-to-date changes to the meeting agenda can be found on the website.

SUPPLEMENTARY INFORMATION: This meeting is being held under the provisions of the Federal Advisory Committee Act (FACA) (5 U.S.C., Appendix), the Government in the Sunshine Act (5 U.S.C. 552b), and 41 CFR 102-3.140 and 102-3.150.

Purpose of the Meeting: To obtain, review, and evaluate information related to the Board's mission in advising the Secretary of Defense on overall DoD management and governance on (a) issues central to strategic DoD planning; (b) policy implications of U.S. force structure and force modernization and on DoD's ability to execute U.S. defense strategy; (c) U.S. regional defense policies; and (d) other research and analysis of topics raised by the Secretary of Defense, the Deputy Secretary of Defense, or the Chief Management Officer of the Department of Defense (CMO) to allow the Board to provide informed, independent advice reflecting an outside private sector perspective of proven and effective best practices that can be applied to the DoD.

Agenda: The closed meeting will begin on November 6, 2019 at 8:00 a.m. with opening remarks by Ms. Roma Laster, the Designated Federal Officer. The Board will receive classified information provided by the National Guard Bureau and the United States Navy on the status of each respective organization. The meeting will go into open session at 10:00 a.m. where the Board Interim Chair will provide an update on the Board's activities in support of current DoD reform efforts. The meeting will again go into closed session at 10:45 a.m. for classified discussions on proposed reform efforts, key challenges, and current scorecard within the Fourth Estate; classified discussions with the Secretary of Defense, Deputy Secretary of Defense, and the Chief Management Officer in regards to ongoing reform efforts; and classified briefings from the Special Assistant to the Chief of the National Guard Bureau and the Director, Space Force Planning Task Force on the establishment of both U.S. Space Command (USSPACECOM) and United States Space Force (USSF). The meeting will adjourn at 2:30 p.m.

Meeting Accessibility: In accordance with section 10(d) of the FACA and 41 CFR 102-3.155, the DoD has determined that portions of the Board's meeting will be closed to the public. Specifically, the CMO, after consultation with the DoD Office of General Counsel, has determined in writing that from 8:00 a.m. to 10:00 a.m. and again from 10:45 a.m. to 2:30 p.m. the meeting will be closed as the Board will consider classified information covered by 5 U.S.C. 552b(c)(1). This determination is based on the consideration that the information presented by the National Guard Bureau and the U.S. Navy, discussions on the Fourth Estate, discussions with the Secretary, Deputy Secretary of Defense, the CMO, and information presented on Space are classified and it is expected that discussions throughout these briefings will involve classified matters of national defense or foreign policy. Such classified material is so intertwined with the unclassified material that it cannot reasonably be segregated into separate discussions without disclosing secret, confidential, or otherwise classified material. Pursuant to FACA and 41 CFR 102-3.140, that portion of the meeting from 10:00 a.m. to 10:45 a.m. is open to the public. Public attendees requiring escort should arrive at the Pentagon Visitor Center (adjacent to the Pentagon Metro Entrance) with sufficient time to complete security screening no later than 9:30 a.m. on November 6, 2019. To complete security screening, come prepared to present two forms of identification one of which must be a pictured identification card.

Written Statements: Written comments on this, or any other Defense Business Board related topic, may be submitted to the Designated Federal Officer via email to mailbox address: osd.pentagon.odam.mbx.defense-business-board@mail.mil in either Adobe Acrobat or Microsoft Word format. Comments received 24 hours prior to the scheduled meeting will be presented during the meeting. After such time the statement will be distributed to the membership for their review and attached as a tab to the final study. Please note that because the Board operates under the provisions of the FACA, all submitted comments will be treated as public documents and will be made available for public inspection, including, but not limited to, being posted on the Board's website.

Dated: October 15, 2019.
Aaron T. Siegel,
Alternate OSD Federal Register Liaison Officer, Department of Defense.

[FR Doc. 2019-22804 Filed 10-17-19; 8:45 am]

BILLING CODE 5001-06-P